DEPARTMENT OF LABOR

Employment and Training Administration

[TA-W-57,980]

Collins Supply & Equipment Co. Inc., Scranton, PA; Notice of Termination of Investigation

Pursuant to section 221 of the Trade Act of 1974, as amended, an investigation was initiated on September 15, 2005 in response to a petition filed by a company official on behalf of workers at Collins Supply & Equipment Co. Inc., Scranton, Pennsylvania.

All workers were separated from the subject firm more than one year before the date of the petition. Section 223(b) of the Act specifies that no certification may apply to any worker whose last separation occurred more than one year before the date of the petition.

Signed at Washington, DC, this 26th day of September, 2005.
Linda G. Poole
Certifying Officer, Division of Trade Adjustment Assistance.

[FR Doc. E5-6005 Filed 10-28-05; 8:45 am]

BILLING CODE 4510-30-P